DEPARTMENT OF TRANSPORTATION

Federal Aviation Administration

14 CFR Part 39

[Docket No. FAA-2025-0212; Project Identifier MCAI-2024-00778-R; Amendment 39-22968; AD 2025-04-10]

RIN 2120-AA64

Airworthiness Directives; Airbus Helicopters Deutschland GmbH Helicopters

AGENCY: Federal Aviation Administration (FAA), DOT.

ACTION: Final rule; request for comments.

SUMMARY: The FAA is adopting a new airworthiness directive (AD) for all Airbus Helicopters Deutschland GmbH Model EC135P1, EC135P2, EC135P2+, EC135P3, EC135T1, EC135T2, EC135T2+/EC635T2+, EC135T3, MBB-BK 117 C-2, MBB-BK 117 D-2, and MBB-BK 117 D-3 helicopters. This AD was prompted by reports of malfunctioning emergency fuel shut-off switches on the warning unit. This AD requires inspecting certain switches on the warning units, and depending on the results, replacing or repairing the warning unit. This AD also allows installing certain warning units provided certain requirements are met. These actions are specified in a European Union Aviation Safety Agency (EASA) AD, which is incorporated by reference. The FAA is issuing this AD to address the unsafe condition on these products.

DATES: This AD is effective March 24, 2025.

The Director of the Federal Register approved the incorporation by reference of a certain publication listed in this AD as of March 24, 2025.

The FAA must receive comments on this AD by April 21, 2025.

ADDRESSES: You may send comments, using the procedures found in 14 CFR 11.43 and 11.45, by any of the following methods:

• Federal eRulemaking Portal: Go to regulations.gov. Follow the instructions for submitting comments.

• Fax: (202) 493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

AD Docket: You may examine the AD docket at regulations.gov under Docket No. FAA-2025-0212; or in person at Docket Operations between 9 a.m. and 5 p.m., Monday through Friday, except Federal holidays. The AD docket contains this final rule, the mandatory continuing airworthiness information (MCAI), any comments received, and other information. The street address for Docket Operations is listed above.

Material Incorporated by Reference:

• For EASA material identified in this AD, contact EASA, Konrad-Adenauer-Ufer 3, 50668 Cologne, Germany; phone: +49 221 8999 000; ePublic Law ADs@easa.europa.eu; website: easa.europa.eu. You may find the EASA material on the EASA website at ad.easa.europa.eu. It is also available at regulations.gov under Docket No. FAA-2025-0212.

• You may view this material at the FAA, Office of the Regional Counsel, Southwest Region, 10101 Hillwood Parkway, Room 6N-321, Fort Worth, TX 76177. For information on the availability of this material at the FAA, call (817) 222-5110.

FOR FURTHER INFORMATION CONTACT: Zain Jamal, Aviation Safety Engineer, FAA, 1600 Stewart Avenue, Suite 410, Westbury, NY 11590; phone: (847) 294-7264; email: Zain.Jamal@faa.gov.

SUPPLEMENTARY INFORMATION:

Comments Invited

The FAA invites you to send any written data, views, or arguments about this final rule. Send your comments to an address listed under the ADDRESSES section. Include “Docket No. FAA-2025-0212; Project Identifier MCAI-2024-00778-R” at the beginning of your comments. The most helpful comments reference a specific portion of the final rule, explain the reason for any recommended change, and include supporting data. The FAA will consider all comments received by the closing date and may amend this final rule because of those comments.

Except for Confidential Business Information (CBI) as described in the following paragraph, and other information as described in 14 CFR 11.35, the FAA will post all comments received, without change, to regulations.gov, including any personal information you provide. The agency will also post a report summarizing each substantive verbal contact received about this final rule.

Confidential Business Information

CBI is commercial or financial information that is both customarily and actually treated as private by its owner. Under the Freedom of Information Act (FOIA) (5 U.S.C. 552), CBI is exempt from public disclosure. If your comments responsive to this AD contain commercial or financial information that is customarily treated as private, that you actually treat as private, and that is relevant or responsive to this AD, it is important that you clearly designate the submitted comments as CBI. Please mark each page of your submission containing CBI as “PROPIN.” The FAA will treat such marked submissions as confidential under the FOIA, and they will not be placed in the public docket of this AD. Submissions containing CBI should be sent to Zain Jamal, Aviation Safety Engineer, FAA, 1600 Stewart Avenue, Suite 410, Westbury, NY 11590; phone: (847) 294-7264; email: Zain.Jamal@faa.gov. Any commentary that the FAA receives which is not specifically designated as CBI will be placed in the public docket for this rulemaking.

Background

EASA, which is the Technical Agent for the Member States of the European Union, has issued EASA AD 2024-0249, dated December 19, 2024 (EASA AD 2024-0249) (also referred to as the MCAI), to correct an unsafe condition on Airbus Helicopters Deutschland GmbH Model EC135 P1, EC135 P2, EC135 P2+, EC135 P3, EC135 T1, EC135 T2, EC135 T2+, EC135 T3, EC635 P2+, EC635 P3, EC635 T1, EC635 T2+ EC635 T3, MBB-BK117 C-2, MBB-BK117 D-2, MBB-BK117 D-3, and MBB-BK117 D-3m helicopters. The MCAI states that occurrences of emergency off switches, part of the warning unit, were reported to have mechanical failures, particularly getting stuck in intermediate positions or having an untimely change of status, on Model MBB-BK117 helicopters. The MCAI also states these same switches are installed on Model EC135 and EC635 helicopters, and further investigations identified a batch of warning units that might be affected by similar issues.

The FAA is issuing this AD to detect and address a defective switch on the warning unit. The unsafe condition, if not addressed, could result in single or double engine in-flight shutdown and subsequent loss of capability to close the fuel shut-off valve.

You may examine the MCAI in the AD docket at regulations.gov under Docket No. FAA-2025-0212.

Material Incorporated by Reference Under 1 CFR Part 51

The FAA reviewed EASA AD 2024-0249, which requires for helicopters with certain serial-numbered warning units (all part numbers) or those having an unknown serial number installed, repetitive operational checks of the emergency off switches installed on the warning units. Depending on the results, EASA AD 2024-0249 requires replacing the warning unit or repairing parts. EASA AD 2024-0249 also allows installing affected warning units on any helicopter provided the two emergency off switches pass its required check.

This material is reasonably available because the interested parties have access to it through their normal course of business or by the means identified in the ADDRESSES section.

FAA's Determination

These products have been approved by the aviation authority of another country and are approved for operation in the United States. Pursuant to the FAA's bilateral agreement with this State of Design Authority, it has notified the FAA about the unsafe condition described in the MCAI. The FAA is issuing this AD after determining that the unsafe condition described previously is likely to exist or develop on other products of these same type designs.

AD Requirements

This AD requires accomplishing the actions specified in EASA AD 2024-0249, described previously, as incorporated by reference, except for any differences identified as exceptions in the regulatory text of this AD and except as discussed under “Differences Between This AD and the MCAI.”

Explanation of Required Compliance Information

In the FAA's ongoing efforts to improve the efficiency of the AD process, the FAA developed a process to use some civil aviation authority (CAA) ADs as the primary source of information for compliance with requirements for corresponding FAA ADs. The FAA has been coordinating this process with manufacturers and CAAs. As a result, EASA AD 2024-0249 is incorporated by reference in this AD. This AD requires compliance with EASA AD 2024-0249 in its entirety through that incorporation, except for any differences identified as exceptions in the regulatory text of this AD. Using common terms that are the same as the heading of a particular section in EASA AD 2024-0249 does not mean that operators need comply only with that section. For example, where the AD requirement refers to “all required actions and compliance times,” compliance with this AD requirement is not limited to the section titled “Required Action(s) and Compliance Time(s)” in EASA AD 2024-0249. Material required by EASA AD 2024-0249 for compliance will be available at regulations.gov under Docket No. FAA-2025-0212 after this AD is published.

Differences Between This AD and the MCAI

The MCAI applies to Model EC635 P2+, EC635 P3, EC635 T1, EC635 T2+, EC635 T3, and MBB-BK117 D-3m helicopters, whereas this AD does not because those models are not FAA type-certificated except where the U.S. type certificate data sheet explains that the Model EC635T2+ helicopter having serial number 0858 was converted from Model EC635T2+ to Model EC135T2+.

The MCAI, as well as the material referenced in the MCAI, refer to the “operational inspection” as a “check.” For the purpose of an FAA AD, a “check” may be done by the owner/operator (pilot) holding at least a private pilot certificate provided certain criteria are met. The authorization for a “check” in an FAA AD is an exception to the FAA's standard maintenance regulations and the criteria is not met in this AD. Accordingly, while the material referenced in the MCAI allows a pilot or equivalent with the correct training and accreditation to accomplish its procedures, this AD requires those actions be accomplished by persons authorized under 14 CFR 43.3.

Lastly, the MCAI requires the additional operational checks to be accomplished before next flight after any of the emergency off switches has been pushed on a helicopter, whereas this AD requires the operational inspection within intervals not to exceed 12 months following the initial operational inspection.

Interim Action

The FAA considers that this AD is an interim action. If final action is later identified, the FAA might consider further rulemaking then.

Justification for Immediate Adoption and Determination of the Effective Date

Section 553(b) of the Administrative Procedure Act (APA) (5 U.S.C. 551 et seq.) authorizes agencies to dispense with notice and comment procedures for rules when the agency, for “good cause,” finds that those procedures are “impracticable, unnecessary, or contrary to the public interest.” Under this section, an agency, upon finding good cause, may issue a final rule without providing notice and seeking comment prior to issuance. Further, section 553(d) of the APA authorizes agencies to make rules effective in less than thirty days, upon a finding of good cause.

An unsafe condition exists that requires the immediate adoption of this AD without providing an opportunity for public comments prior to adoption. The FAA has found that the risk to the flying public justifies forgoing notice and comment prior to adoption of this rule because emergency fuel shut-off switches stuck in an intermediate position could result in an unexpected activation of one fuel shut-off valve, or possibly both, and a subsequent in-flight engine shutdown with the potential inability to restart, and inadvertent autorotation. Additionally, the FAA has no information pertaining to the condition of these switches that may currently exist in helicopters, how quickly the condition may propagate to an in-flight shutdown, and how many operators have activated the emergency shut-off switches. Therefore, an urgent unsafe condition exists and the initial actions required by this AD must be accomplished within 55 hours time-in-service, a time period of up to two months based on the average flight-hour utilization rates of these helicopters, or 12 months, whichever occurs first. High usage helicopters have an increased likelihood of reaching these hours within a time period of up to approximately one month based on the average flight-hour utilization rates of these helicopters. Accordingly, notice and opportunity for prior public comment are impracticable and contrary to the public interest pursuant to 5 U.S.C. 553(b).

In addition, the FAA finds that good cause exists pursuant to 5 U.S.C. 553(d) for making this amendment effective in less than 30 days, for the same reasons the FAA found good cause to forgo notice and comment.

Regulatory Flexibility Act

The requirements of the Regulatory Flexibility Act (RFA) do not apply when an agency finds good cause pursuant to 5 U.S.C. 553 to adopt a rule without prior notice and comment. Because the FAA has determined that it has good cause to adopt this rule without prior notice and comment, RFA analysis is not required.

Costs of Compliance

The FAA estimates that this AD affects 606 helicopters of U.S. registry. Labor rates are estimated at $85 per work-hour. Based on these numbers, the FAA estimates that operators may incur the following costs to comply with this AD.

Inspecting the emergency off switches will take 0.5 work-hour for an estimated cost of $43 per helicopter and $26,058 for the U.S. fleet, per inspection cycle.

If required, replacing a warning unit will take 4 work-hours and parts will cost $46,000 for an estimated cost of $46,340 per helicopter.

The FAA has no way of determining the costs pertaining to necessary repairs that are required in accordance with a method approved by the FAA, EASA, or Airbus Helicopters' EASA Design Organization Approval.

Authority for This Rulemaking

Title 49 of the United States Code specifies the FAA's authority to issue rules on aviation safety. Subtitle I, section 106, describes the authority of the FAA Administrator. Subtitle VII: Aviation Programs describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866, and

(2) Will not affect intrastate aviation in Alaska.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(f), 40113, 44701.

§ 39.13 [Amended]

2. The FAA amends § 39.13 by adding the following new airworthiness directive:

2025-04-10 Airbus Helicopters Deutschland GmbH: Amendment 39-22968; Docket No. FAA-2025-0212; Project Identifier MCAI-2024-00778-R.

(a) Effective Date

This airworthiness directive (AD) is effective March 24, 2025.

(b) Affected ADs

None.

(c) Applicability

This AD applies to Airbus Helicopters Deutschland GmbH Model EC135P1, EC135P2, EC135P2+, EC135P3, EC135T1, EC135T2, EC135T2+/EC635T2+, EC135T3, MBB-BK 117 C-2, MBB-BK 117 D-2, and MBB-BK 117 D-3 helicopters, certificated in any category.

Note 1 to paragraph (c): Helicopters with an EC135P3H designation are Model EC135P3 helicopters, helicopters with an EC135T3H designation are Model EC135T3 helicopters, and helicopters with an MBB-BK 117 C-2e designation are Model MBB-BK 117C-2 helicopters.

(d) Subject

Joint Aircraft System Component (JASC) Code 2560, Emergency equipment.

(e) Unsafe Condition

This AD was prompted by reports of emergency fuel shut-off switches on the warning unit getting stuck in an intermediate position or experiencing an untimely change of status. The FAA is issuing this AD to detect and address a defective switch on the warning unit. The unsafe condition, if not addressed, could result in single or double engine in-flight shutdown, loss of capability to inactivate the fuel shut-off valve, and subsequent inadvertent autorotation.

(f) Compliance

Comply with this AD within the compliance times specified, unless already done.

(g) Requirements

Except as specified in paragraphs (h) and (i) of this AD: Comply with all required actions and compliance times specified in, and in accordance with, European Union Aviation Safety Agency AD 2024-0249, dated December 19, 2024 (EASA AD 2024-0249).

(h) Exceptions to EASA AD 2024-0249

(1) Where EASA AD 2024-0249 defines “affected part,” this AD requires replacing that definition with “Any part-numbered warning unit having a serial number (S/N) identified in the Planning Information, paragraph 12., of Airbus Helicopters Alert Service Bulletin (ASB) EC135-31-55-0001 or ASB MBB-BK117-31-55-0001, each Issue 1 and dated December 19, 2024, as applicable, or having an S/N that cannot be determined.”

(2) Where EASA AD 2024-0249 refers to its effective date, this AD requires using the effective date of this AD.

(3) Where the “Required Action(s) and Compliance Time(s)” section of EASA AD 2024-0249 specifies “check,” and where the material referenced in EASA AD 2024-0249 specifies “check,” this AD requires replacing that text with “inspection” or “inspect,” as applicable.

(4) Where paragraph (2) of EASA AD 2024-0249, specifies “From the effective date of this AD, before next flight after any of the emergency off switches has been pushed on a helicopter,” this AD requires replacing that text with “Following paragraph (1) of EASA AD 2024-0249, within intervals not to exceed 12 months.”

(5) Where the material referenced in EASA AD 2024-0249 specifies that it can be accomplished by a pilot or equivalent with the correct training and accreditation, this AD requires the actions be accomplished by persons authorized under 14 CFR 43.3.

(6) This AD does not adopt the note in the material referenced in EASA AD 2024-0249 that specifies information regarding the pilot accomplishing the once only check (inspection).

(7) Where the material referenced in EASA AD 2024-0249 specifies discarding parts, this AD requires removing those parts from service.

(8) Where paragraph (3) of EASA AD 2024-0249 states “discrepancy, as described in the ASB,” and where paragraph (4) of EASA AD 2024-0249 states “discrepancy,” this AD requires replacing that text with the text in table 1 to paragraph (h)(8) of this AD.

Note 2 to paragraph (h)(8): Airbus Helicopters ASB EC135-31-55-0001 and ASB MBB-BK117-31-55-0001, each Issue 1 and dated December 19, 2024, which are referenced in EASA AD 2024-0249, identify configuration information.

BILLING CODE 4910-13-P

BILLING CODE 4910-13-C

(9) Where paragraph (3) of EASA AD 2024-0249 specifies to “contact AH for approved repair instructions and accomplish those instructions accordingly,” this AD requires replacing that text with “repair the WU in accordance with a method approved by the Manager, International Validation Branch, FAA; or EASA; or Airbus Helicopters Deutschland GmbH's EASA Design Organization Approval (DOA). If approved by the DOA, the approval must include the DOA-authorized signature.”

(10) This AD does not adopt the “Remarks” section of EASA AD 2024-0249.

(i) No Reporting Requirement

Although the material referenced in EASA AD 2024-0249 specifies to submit certain information to the manufacturer, this AD does not require that action.

(j) Special Flight Permits

Special flight permits are prohibited.

(k) Alternative Methods of Compliance (AMOCs)

(1) The Manager, International Validation Branch, FAA, has the authority to approve AMOCs for this AD, if requested using the procedures found in 14 CFR 39.19. In accordance with 14 CFR 39.19, send your request to your principal inspector or local Flight Standards District Office, as appropriate. If sending information directly to the manager of the International Validation Branch, send it to the attention of the person identified in paragraph (l) of this AD. Information may be emailed to: AMOC@faa.gov.

(2) Before using any approved AMOC, notify your appropriate principal inspector, or lacking a principal inspector, the manager of the local Flight Standards District Office/certificate holding district office

(l) Additional Information

For more information about this AD, contact Zain Jamal, Aviation Safety Engineer, FAA, 1600 Stewart Avenue, Suite 410, Westbury, NY 11590; phone: (847) 294-7264; email: Zain.Jamal@faa.gov.

(m) Material Incorporated by Reference

(1) The Director of the Federal Register approved the incorporation by reference of the material listed in this paragraph under 5 U.S.C. 552(a) and 1 CFR part 51.

(2) You must use this material as applicable to do the actions required by this AD, unless the AD specifies otherwise.

(i) European Union Aviation Safety Agency (EASA) AD 2024-0249, dated December 19, 2024.

(ii) [Reserved]

(3) For EASA material identified in this AD, contact EASA, Konrad-Adenauer-Ufer 3, 50668 Cologne, Germany; phone: +49 221 8999 000; email: ADs@easa.europa.eu; website: easa.europa.eu. You may find the EASA material on the EASA website at ad.easa.europa.eu.

(4) You may view this material at the FAA, Office of the Regional Counsel, Southwest Region, 10101 Hillwood Parkway, Room 6N-321, Fort Worth, TX 76177. For information on the availability of this material at the FAA, call (817) 222-5110.

(5) You may view this material at the National Archives and Records Administration (NARA). For information on the availability of this material at NARA, visit www.archives.gov/federal-register/cfr/ibr-locations or email fr.inspection@nara.gov.

Issued on February 19, 2025.
Steven W. Thompson,
Acting Deputy Director, Compliance & Airworthiness Division, Aircraft Certification Service.

[FR Doc. 2025-03619 Filed 3-3-25; 4:15 pm]

BILLING CODE 4910-13-P